DEPARTMENT OF COMMERCE

National Oceanic and Atmospheric Administration

[I.D. 110501G]

Marine Mammals; Scientific Research Permit (No. 1012-1647-00)

AGENCY: National Marine Fisheries Service (NMFS), National Oceanic and Atmospheric Administration (NOAA), Commerce.

ACTION: Issuance of Permit.

SUMMARY: Notice is hereby given that Dr. Robert B. Griffin, Mote Marine Laboratory, 1600 Ken Thompson Parkway, Sarasota, FL 34236, has been issued a permit to take Atlantic spotted dolphins (Stenella frontalis) and bottlenose dolphins (Tursiops truncatus) for purposes of scientific research.

ADDRESSES: The permit and related documents are available for review upon written request or by appointment in the following offices:

Permits Division, Office of Protected Resources, NMFS, 1315 East-West Highway, Room 13130, Silver Spring, MD 20910 (301/713-2289); and

Regional Administrator, Southeast Region, 9721 Executive Center Drive, St. Petersburg, FL 33702-2432 (813/570-5312)

FOR FURTHER INFORMATION CONTACT: Trevor Spradlin or Lynne Barre, 301/713-2289.

SUPPLEMENTARY INFORMATION: On August 6, 2001, notice was published in the Federal Register (66 FR 41005) that a request for a scientific research permit had been submitted by the above-named individual to take Atlantic spotted dolphins and bottlenose dolphins in the Gulf of Mexico over a five year period during the conduct of photo-identification, biopsy sampling and suction cup tagging activities. The requested permit has been issued under the authority of the Marine Mammal Protection Act of 1972, as amended (16 U.S.C. 1361 et seq.) and the Regulations Governing the Taking and Importing of Marine Mammals (50 CFR part 216).

Dated: November 13, 2001.
Ann D. Terbush,
Chief, Permits and Documentation Division, Office of Protected Resources, National Marine Fisheries Service.

[FR Doc. 01-28881 Filed 11-16-01; 8:45 am]

BILLING CODE 3510-22-S